DEPARTMENT OF TRANSPORTATION

Federal Railroad Administration

Notice of Public Hearing

In accordance with 49 CFR 211.9 and 211.41, notice was published January 18, 2001 that the Federal Railroad Administration (FRA) has received a request for a waiver of compliance with certain requirements of the Federal safety laws and regulations. (See Docket Number FRA-2000-8268, Item 3, available for inspection on the Internet at the docket facility's Web site at http://dms.dot.gov) It has subsequently been determined that a Public Hearing should be held relative to this request. The petition is described below, including the party seeking relief, the regulatory provisions involved, the nature of the relief being requested, and the petitioner's arguments in favor of relief.

Burlington Northern Santa Fe Railway Company

[Waiver Petition Docket Number FRA-2000-8268]

Burlington Northern Santa Fe Railway (BNSF) seeks a permanent waiver of compliance from certain requirements of 49 CFR Part 229 (Railroad Locomotive Safety Standards) for a select group of C-44-9W locomotives, road numbers BNSF 700-799, 960-1123, 4300-4999, and 5370-5499. Specifically, BNSF requests a waiver from 49 CFR 229.23(a), which requires that the interval between any two periodic inspections may not exceed 92 days. BNSF proposes to extend this interval to 122 days on this group of locomotives.

In support of this proposal BNSF states: “These locomotives contain the industry's latest technology in the areas of safety and reliability, are microprocessor controlled and equipped with New York Air Brake Corporation computer controlled brakes.” They cite calender day inspections and other inspections that are done every 3 to 4 days which will help ensure safe operation. Since April 1, 1999 they have been performing periodic inspections every 61 days. They estimate that they have had a 0.87 % defect rate after 61 days. In conclusion BNSF states: “Extending the periodic maintenance interval from 92 to 122 days will not adversely effect the safety or performance of C44-9W locomotives.”

Interested parties were invited to participate in these proceedings by submitting written views, data, or comments. Although the formal comment period closed on March 5, 2001, written comments received after that date will be considered as far as practicable. In addition, the FRA has determined that a public hearing is necessary before a final decision is made on this proposal.

Accordingly, a public hearing is hereby set for 9:00 a.m. on Wednesday, July 18, 2001, at the National Weather Service, National Training Center Auditorium, 7220 NW 101st Terrace, Kansas City, Missouri 64153. Interested parties are invited to present oral statements at the hearing.

The hearing will be an informal one and will be conducted in accordance with Rule 25 of the FRA Rules of Practice (49 CFR 211.25), by a representative designated by the FRA.

The hearing will be a nonadversary proceeding and, therefore, there will be no cross-examination of persons presenting statements. The FRA representative will make an opening statement outlining the scope of the hearing. After all initial statements have been completed, those persons wishing to make brief rebuttal statements will be given the opportunity to do so in the same order in which they made their initial statements. Additional procedures, if necessary for the conduct of the hearing, will be announced at the hearing.

All communications concerning these proceedings should identify the appropriate docket number, (e.g., Waiver Petition Docket Number FRA-2000-8268) and must be submitted to the DOT Docket Management Facility, Room PL-401 (Plaza Level), 400 Seventh Street, SW, Washington, D.C. 20590. All written communications concerning these proceedings are available for examination during regular business hours (9 a.m.-5 p.m.) at the above facility. All documents in the public docket are also available for inspection and copying on the Internet at the docket facility's web site athttp://dms.dot.gov.

Issued in Washington, DC on June 13, 2001.
Grady C. Cothen, Jr.,
Deputy Associate Administrator for Safety Standards and Program Development.

[FR Doc. 01-15406 Filed 6-18-01; 8:45 am]

BILLING CODE 4910-06-P